DEPARTMENT OF JUSTICE

Office of Community Oriented Policing Services; Agency Information Collection Activities: Proposed Collection; Comments Requested

ACTION: 60-Day emergency notice of information collection under review: new collection, Mental Health and Community Safety Initiative Application Kit.

The Department of Justice, Office of Community Policing Services has submitted the following information collection request to the Office of Management and Budget (OMB) for review and clearance in accordance with emergency review procedures of the Paperwork Reduction Act of 1995. This notice supersedes the previous notice published on February 6, 2002, in volume 67, on pages 5612-5613. OMB approval has been requested by February 28, 2002. The proposed information collection is published to obtain comments from the public and affected agencies. If granted, the emergency approval is only valid for 180 days. Comments should be directed to OMB, Office of Information Regulation Affairs, Attention: Department of Justice Desk Officer (202) 395-6466, Washington, DC 20503.

During the first 60 days of this same review period, a regular review of this information collection is also being undertaken. Written comments and/or suggestions regarding additional information, including obtaining a copy of the proposed information collection instrument with instructions, should be directed to Gretchen DePasquale, 202-305-7780, Office of Community Oriented Policing Services, 1100 Vermont Avenue, NW., Washington, DC 20530.

Written comments and suggestions from the public and affected agencies concerning the proposed collection of information are encouraged. Your written responses should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: New collection.

(2) Title of the Form/Collection: Mental Health and Community Safety Initiative Application Kit.

(3) Agency form number, if any, and the applicable component of the Department of Justice sponsoring the collection: Agency Form Number: None, Office of Community Oriented Policing Services, U.S. Department of Justice.

(4) Affected public who will be asked or required to respond, as well as a bride abstract: Primary: Federally recognized tribal governments. Other: N/A. Abstract: The information collected will be used by the COPS Office to determine whether Federally Recognized Tribal governments are eligible for three year grants specifically targeted to meet the most serious needs to law enforcement in Indian communities. The grants are meant to enhance law enforcement infrastructures and community policing efforts in these communities.

(5) An estimate of the total number of respondents and the amount of time estimated for an average respondent to respond: There will be an estimated 15 responses. The estimated amount of time required for the average respondent to respond is: 3.5 hours.

(6) An estimate of the total public burden (in hours) associated with collection: 67.5 hours annually.

If additional information is required contact: Mrs. Brenda Byer, Department Deputy Clearance Officer, Information Management and Security Staff, Justice Management Division, United States Department of Justice, 601 D Street NW, Patrick Henry Building, Suite 1600, NW, Washington, DC 20530.

Dated: February 13, 2002.
Brenda E. Dyer,
Department Deputy Clearance Officer, Department of Justice.

[FR Doc. 02-4043 Filed 2-20-02; 8:45 am]

BILLING CODE 4410-AT-M